OFFICE OF SPECIAL COUNSEL

Agency Information Collection Activities; Request for Comment

AGENCY: Office of Special Counsel.

ACTION: Notice.

SUMMARY: In accordance with the Paperwork Reduction Act of 1995 (44 U.S.C. Chapter 35), and implementing regulations at 5 CFR part 1320, the U.S. Office of Special Counsel (OSC), plans to request approval from the Office of Management and Budget (OMB) for use of three previously approved information collections consisting of customer survey forms.

OSC is required by law to conduct an annual survey of those who seek its assistance. The information collections are used to carry out that mandate. The current OMB approval for these collections of information expires on March 31, 2002; OSC does not plan to use the forms again until the next round of annual surveys beginning on October 1, 2002.

Current and former Federal employees, employee representatives, other Federal agencies, state and local government employees, and the general public are invited to comment on these information collections. Comments are invited on: (a) Whether the proposed collections of information are necessary for the proper performance of OSC functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received by May 13, 2002.

ADDRESSES: Kathryn Stackhouse, Attorney, Planning and Advice Division, U.S. Office of Special Counsel, 1730 M Street, N.W., Suite 201, Washington, DC 20036-4505.

FOR FURTHER INFORMATION CONTACT: Kathryn Stackhouse, Attorney, Planning and Advice Division, at the address shown above; by facsimile at (202) 653-5151; or by telephone at (202) 653-8971. The survey forms for collection of information are available for review on OSC's Web site, at www.osc.gov/reading.htm.

SUPPLEMENTARY INFORMATION: OSC is an independent agency responsible for: (1) investigation of allegations of prohibited personnel practices defined by law at 5 U.S.C. 2302(b), and certain other illegal employment practices under titles 5 and 38 of the U.S. Code, affecting current or former Federal employees or applicants for employment, and covered state and local government employees; (2) the interpretation and enforcement of Hatch Act provisions on political activity in chapters 15 and 73 of title 5 of the U.S. Code; and (3) the provision of a secure channel through which Federal employees may make disclosures of information evidencing violations of law, rule or regulation; gross waste of funds; gross mismanagement; abuse of authority; or a substantial and specific danger to public health or safety.

OSC is required to conduct an annual survey of all individuals who seek its assistance. Section 13 of Public Law 103-424 (1994), codified at 5 U.S.C. 1212 note, states, in part: “[T]he survey shall—(1) determine if the individual seeking assistance was fully apprised of their rights; (2) determine whether the individual was successful either at the Office of Special Counsel or the Merit Systems Protection Board; and (3) determine if the individual, whether successful or not, was satisfied with the treatment received from the Office of Special Counsel.” The same section also provides that survey results are to be published in OSC's annual report to Congress. Copies of prior years' annual reports are available on OSC's Web site, at www.osc.gov/forms.htm#annual, or by calling OSC at (202) 653-2253.

OSC uses three forms to survey potential respondents in three types of matters closed during the previous fiscal year: Form OSC-48a is sent to complainants who alleged prohibited personnel practices, or other prohibited activities (including violations of the Hatch Act); Form OSC-48b is sent to persons who received a written advisory opinion on the application of the Hatch Act; and Form OSC-48c is sent to covered persons who made whistleblower disclosures to OSC. Each of these forms for information collection is described below. The forms to be submitted to OMB contain some minor modifications to existing forms, including increased use of “plain English” and minor format changes. In addition, the estimated number of annual respondents for each survey has been reduced to reflect estimated actual survey response rates, rather than surveys sent.

1. Title of Collection: OSC Survey—Prohibited Personnel Practice or Other Prohibited Activity (Agency Form Number OSC-48a; OMB Control Number 3255-0003)

Type of Information Collection Request: Approval of a previously approved collection of information that expires on March 31, 2002, with some revisions.

Affected public: Current and former Federal employees, applicants for Federal employment, state and local government employees, and their representatives.

Respondent's Obligation: Voluntary.

Estimated Annual Number of Respondents: 682.

Frequency: Annual.

Estimated Average Amount of Time for a Person to Respond: 20 minutes.

Estimated Annual Burden: 227 hours.

Abstract: This form is used to survey current and former Federal employees and applicants for Federal employment who have submitted allegations of possible prohibited personnel practices or other prohibited activity for investigation and possible prosecution by OSC, and whose matter has been closed during the prior fiscal year (FY), on their experience at OSC. Specifically, the survey asks questions relating to whether the respondent was: (1) apprised of his or her rights; (2) successful at the OSC or at the Merit Systems Protection Board; and (3) satisfied with the treatment received at the OSC.

2. Title of Collection: OSC Survey—Hatch Act Advisory Opinion (Agency Form Number OSC-48b; OMB Control Number 3255-0003)

Type of Information Collection Request: Approval of a previously approved collection of information that expires on March 31, 2002, with some revisions.

Affected public: Current and former Federal employees, applicants for Federal employment, state and local government employees, and their representatives.

Respondent's Obligation: Voluntary.

Estimated Annual Number of Respondents: 65.

Frequency: Annual.

Estimated Average Amount of Time for a Person to Respond: 12 minutes.

Estimated Annual Burden: 13 hours.

Abstract: This form is used to survey those who request a written advisory opinion on the application of the Hatch Act, and whose matter has been closed during the prior FY, on their experience at OSC. Specifically, the survey asks questions relating to whether the respondent was: (1) apprised of his or her rights; (2) successful at the OSC; and (3) satisfied with the treatment received at the OSC.

3. Title of Collection: OSC Survey—Whistleblower Disclosure (Agency Form Number OSC-48c; OMB Control Number 3255-0003)

Type of Information Collection Request: Approval of a previously approved collection of information that expires on March 31, 2002, with some revisions.

Affected public: Current and former Federal employees, applicants for Federal employment, and their representatives.

Respondent's Obligation: Voluntary.

Estimated Annual Number of Respondents: 93.

Frequency: Annual.

Estimated Average Amount of Time for a Person to Respond: 15 minutes.

Estimated Annual Burden: 23 hours.

Abstract: This form is used to survey those who have filed a whistleblower disclosure, and whose matter has been closed during the prior FY, on their experience at OSC. Specifically, the survey asks questions relating to whether the respondent was: (1) apprised of his or her rights; (2) successful at the OSC; and (3) satisfied with the treatment received at the OSC.

Dated: March 8, 2002.
Elaine D. Kaplan,
Special Counsel.

[FR Doc. 02-6168 Filed 3-13-02; 8:45 am]

BILLING CODE 7405-01-S